DEPARTMENT OF DEFENSE

Office of the Secretary

32 CFR Part 299

RIN 0790-AG96

National Security Agency/Central Security Service (NSA/CSS) Freedom of Information Act Program

AGENCY: Department of Defense.

ACTION: Final rule.

SUMMARY: This part implements the Freedom of Information Act, as amended. It assigns responsibility for responding to written requests made pursuant to the Act and provides for the review required to determine the appropriateness of classification.

On May 23, 2003 (68 FR 28132), the Department of Defense published an interim final rule with a request for comments. No comments were received. This final rule adopts the interim final rule as written with no changes.

DATES: This rule is effective March 19, 2004.

FOR FURTHER INFORMATION CONTACT: Pamela Phillips, 301-688-6527.

SUPPLEMENTARY INFORMATION:

Executive Order 12866

It has been determined that 32 CFR part 299 is not a significant regulatory action. The rule does not (1) have an annual effect on the economy of $100 million or more or adversely affect in a material way the economy, a sector of the economy, productivity, competition, jobs, the environment, public health or safety, or state, local, or tribal governments or communities; (2) create a serious inconsistency or otherwise interfere with an action taken or planned by another agency; (3) materially alter the budgetary impact of entitlements, grants, user fees, or loan programs, or the rights and obligations of the recipients thereof; or (4) raise novel legal or policy issues arising of legal mandates, the President's priorities, or the principles set forth in this Executive Order.

Unfunded Mandates Reform Act

It has been certified that 32 CFR part 299 does not contain a Federal Mandate that may result in the expenditure by State, local and tribal governments, in aggregate, or by the private sector, of $100 million of more in any one year.

Regulatory Flexibility Act

It has been determined that this rule is not subject to the Regulatory Flexbility Act (5 U.S.C. 601) because it would not, if promulgated, have a significant economic impact on a substantial number of small entities.

Paperwork Reduction Act

It has been certified that 32 CFR part 299 does not impose any reporting or recordkeeping requirements under the Paperwork Reduction Act of 1995 (44 U.S.C. Chapter 44).

Executive Order 13132

It has been certified that 32 CFR part 299 does not have federalism implications, as set forth in Executive Order 13132.

Dated: February 27, 2004.
Patricia L. Toppings,
Alternate OSD Federal Register Liaison Officer, Department of Defense.

[FR Doc. 04-6183 Filed 3-18-04; 8:45 am]

BILLING CODE 5001-06-M